DEPARTMENT OF COMMERCE

National Oceanic and Atmospheric Administration

[I.D. 041105D]

Endangered Species; Permit No. 1247

AGENCY: National Marine Fisheries Service (NMFS), National Oceanic and Atmospheric Administration (NOAA), Commerce.

ACTION: Scientific research permit modification.

SUMMARY: Notice is hereby given that a request for a modification to scientific research permit No. 1247 submitted by Thomas F. Savoy, CT Department of Environmental Protection, Marine Fisheries Division, P.O. Box 719, Old Lyme, Connecticut, 06371, has been granted.

ADDRESSES: The modification and related documents are available for review upon written request or by appointment in the following office(s):

Permits, Conservation and Education Division, Office of Protected Resources, NMFS, 1315 East-West Highway, Room 13705, Silver Spring, MD 20910, phone (301) 713-2289, fax (301) 427-2521; and

Northeast Region, NMFS, One Blackburn Drive, Gloucester, MA 01930-2298, phone (978) 281-9328, fax (978) 281-9394.

FOR FURTHER INFORMATION CONTACT: Jennifer Jefferies (301)713-2289.

SUPPLEMENTARY INFORMATION: The requested modification has been granted under the authority of the Endangered Species Act of 1973, as amended (ESA; 16 U.S.C. 1531 et seq.) and the provisions of § 222.306 of the regulations governing the taking, importing, and exporting of endangered and threatened fish and wildlife (50 CFR 222-226).

Mr. Savory is authorized to sample for and collect 500 shortnose sturgeon (Acipenser brevirostrum) annually in the Connecticut River. The objectives of the study are to collect data on current distribution, abundance, length structure and movements of shortnose sturgeon in this river system. This modification will extend the permit through June 30, 2006.

Issuance of this modification, as required by the ESA was based on a finding that such permit: (1) Was applied for in good faith; (2) will not operate to the disadvantage of the endangered species which is the subject of this permit; and (3) is consistent with the purposes and policies set forth in section 2 of the ESA.

Dated: April 18, 2005.
Stephen L. Leathery,
Chief, Permits, Conservation and Education Division, Office of Protected Resources, National Marine Fisheries Service.

[FR Doc. 05-8227 Filed 4-22-05; 8:45 am]

BILLING CODE 3510-22-S